DEPARTMENT OF HOMELAND SECURITY

Coast Guard

33 CFR Part 117

[Docket No. USCG-2018-0342]

Drawbridge Operation Regulation; Atlantic Intracoastal Waterway, Palm Beach, FL

AGENCY: Coast Guard, DHS.

ACTION: Notice of deviation from drawbridge regulation.

SUMMARY: The Coast Guard has issued a temporary deviation from the operating schedule that governs the Southern Boulevard (SR 700/80) Bridge across the Atlantic Intracoastal Waterway, mile 1024.7, at Palm Beach, FL. The deviation is necessary to accommodate the installation of a temporary lift bridge. This deviation allows the bridge to remain closed to navigation with openings when advanced notice is given during the temporary lift bridge installation.

DATES: This deviation is effective without actual notice from April 20, 2018 through 6 p.m. on April 30, 2018. For the purposes of enforcement, actual notice will be used from 7 a.m. on April 10, 2018, until April 20, 2018.

ADDRESSES: The docket for this deviation, USCG-2018-0342 is available at http://www.regulations.gov. Type the docket number in the “SEARCH” box and click “SEARCH”. Click on Open Docket Folder on the line associated with this deviation.

FOR FURTHER INFORMATION CONTACT: If you have questions on this temporary deviation, call or email LT Ruth Sadowitz, U.S. Coast Guard Sector Miami, Waterways Management Division; telephone 305-535-4307, email ruth.a.sadowitz@uscg.mil.

SUPPLEMENTARY INFORMATION: Johnson Bros. Corporation, on behalf of the bridge owner, Florida Department of Transportation, has requested a temporary deviation from the current operating regulation that governs the Southern Boulevard (SR 700/80) Bridge across the Atlantic Intracoastal Waterway, mile 1024.7, at Palm Beach, FL. The deviation is necessary to facilitate the installation of a temporary lift bridge adjacent to the existing bascule bridge, which will be used during the bridge replacement of the Southern Boulevard Bridge. The existing bridge is a double-leaf bascule bridge with a vertical clearance of 14 feet at mean high water in the closed to navigation position. The temporary lift bridge will have a vertical clearance of 14 feet in the closed position and 65 feet in the lifted position at mean high water.

The existing bridge operating regulation is set out in 33 CFR 117.261(w). Under this temporary deviation, the bridge will remain in the closed to navigation position from 7 a.m. on April 10, 2018 through 6 p.m. on April 16, 2018. From 6:01 p.m. on April 16, 2018 through 6 p.m. on April 30, 2018, both the existing bascule bridge and the temporary lift bridge will open with a four (4) hour advanced notice to the bridge tender. The vertical clearance will be reduced to 65 feet until the completion of the bridge replacement project.

The Atlantic Intracoastal Waterway is used by a variety of vessels including U.S. government vessels, small commercial vessels, recreational vessels and tugs and barge traffic. The Coast Guard has carefully considered the restrictions with waterway users in publishing this temporary deviation.

For the duration of the temporary lift bridge installation, 7 a.m. on April 10, 2018 through 6 p.m. on April 16, 2018, vessels will not be allowed to pass through the bridge for safety reasons. From 6:01 p.m. on April 16, 2018 through 6 p.m. on April 30, 2018, vessels able to pass through the bridge in the closed position may do so at any time. The bridge will not be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Barry L. Dragon,
Director, Bridge Branch, Seventh Coast Guard District.

[FR Doc. 2018-08260 Filed 4-19-18; 8:45 am]

BILLING CODE 9110-04-P